DEPARTMENT OF ENERGY

Federal Energy Regulatory Commission

[Docket No. ER02-2227-001, et al.]

Creed Energy Center, LLC, et al.; Electric Rate and Corporate Regulation Filings

October 15, 2002.

The following filings have been made with the Commission. The filings are listed in ascending order within each docket classification.

1. Creed Energy Center, LLC

[Docket No. ER02-2227-001]

Take notice that on October 10, 2002, Creed Energy Center, LLC tendered for filing a revised rate schedule to correct an error in the name of the company.

Comment Date: October 31, 2002

2. RockGen Energy LLC

[Docket No. ER02-2314-001]

Take notice that on October 10, 2002, RockGen Energy LLC (the Applicant) tendered for filing with the Federal Energy Regulatory Commission (Commission), under section'205 of the Federal Power Act, a compliance filing pursuant to the Commission's September 10, 2002 Order in the above-captioned proceeding.

Comment Date: October 31, 2002.

3. Allegheny Energy Service Corporation, on behalf of Monongahela Power Company, The Potomac Edison Company, and West Penn Power Company (Allegheny Power)

[Docket No. ER02-2561-001]

Take notice that on October 10, 2002, Allegheny Energy Service Corporation on behalf of Monongahela Power Company, The Potomac Edison Company, and West Penn Power Company (Allegheny Power), filed an amendment to its Interconnection Agreement (Agreement) with Mill Run Windpower LLC as First Revised Sheet No. 12 to First Revised Service Agreement No. 345 under Allegheny Power's Open Access Transmission Tariff. The proposed effective date for First Revised Sheet No.12 to First Revised Service Agreement No. 345 is September 20, 2002.

Copies of the filing have been provided to the Public Utilities Commission of Ohio, the Pennsylvania Public Utility Commission, the Maryland Public Service Commission, the Virginia State Corporation Commission, and the West Virginia Public Service Commission.

Comment Date: October 31, 2002.

4. NorthWestern Energy, L.L.C.

[Docket No. ER02-2569-000]

Take notice that on October 4, 2002 NorthWestern Energy, L.L.C. (NWE) filed with the Federal Energy Regulatory Commission (Commission) pages of Exhibit No. NWE-3 that were inadvertently omitted from NWE's September 20, 2002 filing with the Commission. On October 7, 2002, NWE filed a few more pages to Exhibit No. NWE-3 that were inadvertently omitted from the October 4, 2002 filing.

Comment Date: October 28, 2002.

5. CP Power Sales Eighteen, L.L.C.

[Docket No. ER03-30-000]

Take notice that on October 10, 2002, CP Power Sales Eighteen, L.L.C. tendered for filing a Notice of Succession. Effective September 10, 2002, CP Power Sales Eighteen, L.L.C. changed its name to Midwest Generation Energy Services, LLC.

Comment Date: October 31, 2002.

6. The United Illuminating Company

[Docket No. ER03-31-000]

Take notice that on October 10, 2002, The United Illuminating Company (The United Illuminating Company) tendered for filing with the Federal Energy Regulatory Commission (Commission) an Interconnection Agreement between UI and Cross-Sound Cable Company, LLC , executed pursuant to UI's Open Access Transmission Tariff, FERC Electric Tariff, Original Volume No. 4, as amended.

Comment Date: October 31, 2002.

7. Virginia Electric and Power Company

[Docket Nos. ER03-32-000]

Take notice that on October 10, 2002 Virginia Electric and Power Company (Dominion Virginia Power), tendered for filing revisions to its Amended and Restated Interconnection and Operating Agreement (I&O Agreement), First Revised Rate Schedule FERC No. 126, between Dominion Virginia Power and Old Dominion Electric Cooperative (Old Dominion). The revisions address generation reserves in Section 8.05(a), operating costs in Section 11.01, reserve capacity charges in Appendix I and the appropriate billing format in Appendix L.

Dominion Virginia Power respectfully requests that the Commission allow the revised I&O Agreement to become effective on January 1, 2001 and allow the revisions in Section 8.05(a) and Appendix I to become effective as of January 1, 2002.

Copies of the filing were served upon Old Dominion, the Virginia State Corporation Commission and the North Carolina Utilities Commission.

Comment Date: October 31, 2002.

8. Duquesne Light Company

[Docket No. ER03-33-000]

Take notice that on October 11, 2002, Duquesne Light Company (DLC) filed a Service Agreement for Retail Network Integration Transmission Service and a Network Operating Agreement for Retail Network Integration Transmission Service dated October 11, 2002 with Constellation NewEnergy, Inc. under DLC's Open Access Transmission Tariff (Tariff). The Service Agreement and Network Operating Agreement adds Constellation NewEnergy, Inc. as a customer under the Tariff. DLC requests an effective date of October 11, 2002 for the Service Agreement.

Comment Date: November 1, 2002.

Standard Paragraph

Any person desiring to intervene or to protest this filing should file with the Federal Energy Regulatory Commission, 888 First Street, NE, Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Linwood A. Watson, Jr.,
Deputy Secretary.

[FR Doc. 02-27904 Filed 10-31-02; 8:45 am]

BILLING CODE 6717-01-P